DEPARTMENT OF TRANSPORTATION

Federal Aviation Administration

14 CFR Part 39

[Docket No. FAA-2018-0512; Product Identifier 2017-NM-170-AD; Amendment 39-19513; AD 2018-25-02]

RIN 2120-AA64

Airworthiness Directives; Airbus SAS Airplanes

AGENCY: Federal Aviation Administration (FAA), Department of Transportation (DOT).

ACTION: Final rule.

SUMMARY: We are adopting a new airworthiness directive (AD) for certain Airbus SAS Model A318, A319, A320, and A321 series airplanes. This AD was prompted by an evaluation by the design approval holder (DAH) indicating that the principal structural elements and certain life-limited parts are subject to widespread fatigue damage (WFD). This AD requires revising the existing maintenance or inspection program to incorporate new or more restrictive airworthiness limitations. We are issuing this AD to address the unsafe condition on these products.

DATES: This AD is effective January 10, 2019.

The Director of the Federal Register approved the incorporation by reference of certain publications listed in this AD as of January 10, 2019.

ADDRESSES: For service information identified in this final rule, contact Airbus SAS, Airworthiness Office—EIAS, Rond-Point Emile Dewoitine No: 2, 31700 Blagnac Cedex, France; telephone +33 5 61 93 36 96; fax +33 5 61 93 44 51; email account.airworth-eas@airbus.com; internet http://www.airbus.com. You may view this service information at the FAA, Transport Standards Branch, 2200 South 216th St., Des Moines, WA. For information on the availability of this material at the FAA, call 206-231-3195. It is also available on the internet at http://www.regulations.gov by searching for and locating Docket No. FAA-2018-0512.

Examining the AD Docket

You may examine the AD docket on the internet at http://www.regulations.gov by searching for and locating Docket No. FAA-2018-0512; or in person at Docket Operations between 9 a.m. and 5 p.m., Monday through Friday, except Federal holidays. The AD docket contains this final rule, the regulatory evaluation, any comments received, and other information. The address for Docket Operations (phone: 800-647-5527) is U.S. Department of Transportation, Docket Operations, M-30, West Building Ground Floor, Room W12-140, 1200 New Jersey Avenue SE, Washington, DC 20590.

FOR FURTHER INFORMATION CONTACT: Sanjay Ralhan, Aerospace Engineer, International Section, Transport Standards Branch, FAA, 2200 South 216th St., Des Moines, WA 98198; telephone and fax 206-231-3223.

SUPPLEMENTARY INFORMATION:

Discussion

We issued a notice of proposed rulemaking (NPRM) to amend 14 CFR part 39 by adding an AD that would apply to certain Airbus SAS Model A318, A319, A320 and A321 series airplanes. The NPRM published in the Federal Register on June 14, 2018 (83 FR 27724). The NPRM was prompted by an evaluation by the DAH indicating that the principal structural elements and certain life-limited parts are subject to WFD. The NPRM proposed to require revising the existing maintenance or inspection program to incorporate new or more restrictive airworthiness limitations.

We are issuing this AD to address prevent fatigue cracking, accidental damage, or corrosion in principal structural elements, and WFD, which could result in reduced structural integrity of the airplane.

The European Aviation Safety Agency (EASA), which is the Technical Agent for the Member States of the European Union, has issued EASA Airworthiness Directive 2017-0231, dated November 21, 2017 (referred to after this as the Mandatory Continuing Airworthiness Information, or “the MCAI”), to correct an unsafe condition for all Airbus SAS Model A318, A319, A320 and A321 series airplanes. The MCAI states:

The airworthiness limitations for the A320 family aeroplanes are currently defined and published in the Airbus A318/A319/A320/A321 Airworthiness Limitations Section (ALS) document(s). The Damage Tolerant Airworthiness Limitation Items are published in ALS Part 2, approved by EASA. The instructions contained in the ALS Part 2 have been identified as mandatory actions for continued airworthiness.

Failure to comply with these instructions could result in an unsafe condition.

Previously, EASA issued AD 2016-0239 [which corresponds to FAA AD 2017-22-03, Amendment 39-19083 (82 FR 49091, October 24, 2017) (“AD 2017-22-03”)] to require accomplishment of all maintenance tasks as described in ALS Part 2 at Revision 05, and [EASA] AD 2015-0038 (later revised) [which corresponds to FAA AD 2016-09-06, Amendment 39-18504 (81 FR 26113, May 2, 2016) (“AD 2016-09-06”)] to require the implementation of reduced thresholds and intervals for the detailed inspection of the forward engine mount on both right hand and left hand sides of aeroplanes equipped with CFM56-5A/5B engines, as specified in the ALS task 712111-01.

Since those [EASA] ADs were issued, Airbus published Revision 06 of the ALS Part 2, and variations up to 6.3, including new and/or more restrictive items, and new A320 family models were certified and added to the Applicability of the ALS. The ALS Part 2 Revision 06 also includes the reduced threshold and intervals required by EASA AD 2015-0038R1.

For the reason described above, this [EASA] AD retains the requirements of EASA AD 2016-0239 and EASA AD 2015-0038R1, which are superseded, requires accomplishment of all maintenance tasks as described in the ALS Part 2 Revision 06, and ALS Part 2 variations 6.1, 6.2 and 6.3 (hereafter collectively referred to as “the ALS” in this [EASA] AD), and maintains specific compliance times for ALS task 572021-01-1 (Wide Spread Fatigue Damage related).

You may examine the MCAI in the AD docket on the internet at http://www.regulations.gov by searching for and locating Docket No. FAA-2018-0512.

Comments

We gave the public the opportunity to participate in developing this final rule. The following presents the comment received on the NPRM and the FAA's response to that comment.

Request To Use the Latest Service Information

Lufthansa Technik requested that we use the latest service information in the NPRM. Lufthansa Technik stated that Airbus issued A318/A319/A320/A321 Airworthiness Limitation Section Part 2—Damage Tolerant Airworthiness Limitation Items (DT-ALI), Revision 07, dated June 13, 2018, which is the latest revision of the document.

We disagree with the commenter's request. We, along with the EASA, have not determined that Airbus A318/A319/A320/A321 Airworthiness Limitation Section Part 2—Damage Tolerant Airworthiness Limitation Items (DT-ALI), Revision 07, dated June 13, 2018, is required for airplanes that do not include Revision 07 as part of the type design. In the future, should we determine that Revision 07 is required, we would consider issuing additional rulemaking at that time. However, operators may request approval to incorporate Revision 07 as an alternative method of compliance (AMOC) under the provisions of paragraph (j) of this AD. We have not changed this AD in this regard.

Change to Language for Previous Approved AMOCs

We have revised paragraph (j)(1)(ii) of this AD to state that AMOCs previously approved for AD 2015-05-02, Amendment 39-18112 (80 FR 15152, March 23, 2015) (“AD 2015-05-02”), as applicable to ALS Part 2, are approved as AMOCs for the corresponding provisions of this AD. In paragraphs (j)(1)(ii)(A), (j)(1)(ii)(B), (j)(1)(ii)(C), and (j)(1)(ii)(D) of the proposed AD, we had identified specific ALS documents. However, any previously approved AMOC for AD 2015-05-02, as applicable to ALS Part 2, is acceptable for the corresponding requirements of this AD.

Removal of Terminating Action for AD 2016-09-06

We have removed paragraph (i)(1) of the proposed AD, which specified that accomplishing the action required by paragraph (g) of this AD terminates the requirements of paragraphs (g) and (j) of AD 2016-09-06. However, we have determined that the actions required by this AD, do not terminate the requirements specified in AD 2016-09-06. The actions specified in paragraph (g) of AD 2016-09-06 were not incorporated into Airbus A318/A319/A320/A321 Airworthiness Limitation Section Part 2—Damage Tolerant Airworthiness Limitation Items (DT-ALI), Revision 06, dated April 10, 2017, which is specified in paragraph (g) of this AD. We have coordinated this issue with EASA.

Conclusion

We reviewed the relevant data, considered the comment received, and determined that air safety and the public interest require adopting this final rule with the changes described previously and minor editorial changes. We have determined that these minor changes:

• Are consistent with the intent that was proposed in the NPRM for addressing the unsafe condition; and

• Do not add any additional burden upon the public than was already proposed in the NPRM.

We also determined that these changes will not increase the economic burden on any operator or increase the scope of this final rule.

Related Service Information Under 1 CFR Part 51

Airbus has issued A318/A319/A320/A321 Airworthiness Limitation Section Part 2—Damage Tolerant Airworthiness Limitation Items (DT-ALI), Revision 06, dated April 10, 2017. This service information describes damage tolerant airworthiness limitations.

Airbus has also issued the following variations to A318/A319/A320/A321 Airworthiness Limitation Section Part 2—Damage Tolerant Airworthiness Limitation Items (DT-ALI), Revision 06, dated April 10, 2017.

• A318/A319/A320/A321 Airworthiness Limitation Section Part 2—Damage Tolerant Airworthiness Limitation Items (DT-ALI), Variation 6.1, dated May 18, 2017. The service information describes ALI tasks applicable to certain Model A320-200 and A321-200 airplane configurations.

• A318/A319/A320/A321 Airworthiness Limitation Section Part 2—Damage Tolerant Airworthiness Limitation Items (DT-ALI), Variation 6.2, dated May 24, 2017. This service information describes ALI tasks applicable to Model A321-271N and -272N airplanes.

• A318/A319/A320/A321 Airworthiness Limitation Section Part 2—Damage Tolerant Airworthiness Limitation Items (DT-ALI), Variation 6.3, dated October 24, 2017. This service information describes ALI tasks associated with door stops for certain Model A318, A319, A320, and A321 series airplanes.

This service information is reasonably available because the interested parties have access to it through their normal course of business or by the means identified in the ADDRESSES section.

Costs of Compliance

We estimate that this AD affects 1,180 airplanes of U.S. registry.

We estimate the following costs to comply with this AD:

We have determined that revising the existing maintenance or inspection program takes an average of 90 work-hours per operator, although we recognize that this number may vary from operator to operator. In the past, we have estimated that this action takes 1 work-hour per airplane. Since operators incorporate maintenance or inspection program changes for their affected fleet(s), we have determined that a per-operator estimate is more accurate than a per-airplane estimate. Therefore, we estimate the total cost per operator to be $7,650 (90 work-hours × $85 per work-hour).

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes and associated appliances to the Director of the System Oversight Division.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2018-25-02 Airbus SAS: Amendment 39-19513; Docket No. FAA-2018-0512; Product Identifier 2017-NM-170-AD.

(a) Effective Date

This AD is effective January 10, 2019.

(b) Affected ADs

This AD affects AD 2017-22-03, Amendment 39-19083 (82 FR 49091, October 24, 2017) (“AD 2017-22-03”).

(c) Applicability

This AD applies to all Airbus SAS airplanes identified in paragraphs (c)(1), (c)(2), (c)(3), and (c)(4) of this AD; certificated in any category; with an original certificate of airworthiness or original export certificate of airworthiness issued on or before October 24, 2017.

(1) Model A318-111, -112, -121, and -122 airplanes.

(2) Model A319-111, -112, -113, -114, -115, -131, -132, and -133 airplanes.

(3) Model A320-211, -212, -214, -216, -231, -232, -233, -251N, and -271N airplanes.

(4) Model A321-111, -112, -131, -211, -212, -213, -231, -232, -251N, -253N, -271N, and -272N airplanes.

(d) Subject

Air Transport Association (ATA) of America Code 05, Time Limits/Maintenance Checks.

(e) Reason

This AD was prompted by an evaluation by the design approval holder, which indicates that principal structural elements and certain life-limited parts are subject to widespread fatigue damage (WFD). We are issuing this AD to prevent fatigue cracking, accidental damage, or corrosion in principal structural elements, and WFD, which could result in reduced structural integrity of the airplane.

(f) Compliance

Comply with this AD within the compliance times specified, unless already done.

(g) New Maintenance or Inspection Program Revision

(1) Within 90 days after the effective date of this AD, revise the existing maintenance or inspection program, as applicable, to incorporate the airworthiness limitations (ALIs) specified in Airbus A318/A319/A320/A321 Airworthiness Limitation Section Part 2—Damage Tolerant Airworthiness Limitation Items (DT-ALI), Revision 06, dated April 10, 2017; and Airbus A318/A319/A320/A321 Airworthiness Limitation Section Part 2—Damage Tolerant Airworthiness Limitation Items (DT-ALI), Variation 6.3, dated October 24, 2017. Except for ALIs identified in paragraphs (g)(2) and (g)(3) of this AD, the initial compliance time for accomplishing the actions is at the applicable time identified in the ALIs specified in Airbus A318/A319/A320/A321 Airworthiness Limitation Section Part 2—Damage Tolerant Airworthiness Limitation Items (DT-ALI), Revision 06, dated April 10, 2017, and Airbus A318/A319/A320/A321 Airworthiness Limitation Section Part 2—Damage Tolerant Airworthiness Limitation Items (DT-ALI), Variation 6.3, dated October 24, 2017; or within 90 days after the effective date of this AD; whichever occurs later, without exceeding the inspection intervals in the ALIs required by paragraph (i) of AD 2017-22-03.

(2) For airplanes identified in Airbus A318/A319/A320/A321 Airworthiness Limitation Section Part 2—Damage Tolerant Airworthiness Limitation Items (DT-ALI), Variation 6.1, dated May 18, 2017: Concurrently with the revision required by paragraph (g)(1) of this AD, revise the existing maintenance or inspection program, as applicable, to incorporate the ALIs specified in Airbus A318/A319/A320/A321 Airworthiness Limitation Section Part 2—Damage Tolerant Airworthiness Limitation Items (DT-ALI), Variation 6.1, dated May 18, 2017. The initial compliance time for accomplishing the actions is at the applicable time identified in the ALIs specified in Airbus A318/A319/A320/A321 Airworthiness Limitation Section Part 2—Damage Tolerant Airworthiness Limitation Items (DT-ALI), Variation 6.1, dated May 18, 2017; or within 90 days after the effective date of this AD; whichever occurs later, without exceeding the inspection intervals in the ALIs required by paragraph (i) of AD 2017-22-03.

(3) For airplanes identified in Airbus A318/A319/A320/A321 Airworthiness Limitation Section Part 2—Damage Tolerant Airworthiness Limitation Items (DT-ALI), Variation 6.2, dated May 24, 2017: Concurrently with the revision required by paragraph (g)(1) of this AD, revise the existing maintenance or inspection program, as applicable, to incorporate the ALIs specified in Airbus A318/A319/A320/A321 Airworthiness Limitation Section Part 2—Damage Tolerant Airworthiness Limitation Items (DT-ALI), Variation 6.2, dated May 24, 2017. The initial compliance time for accomplishing the actions is at the applicable time identified in the ALIs specified in Airbus A318/A319/A320/A321 Airworthiness Limitation Section Part 2—Damage Tolerant Airworthiness Limitation Items (DT-ALI), Variation 6.2, dated May 24, 2017; or within 90 days after the effective date of this AD; whichever occurs later, without exceeding the inspection intervals in the ALIs required by paragraph (i) of AD 2017-22-03.

(h) No Alternative Actions or Intervals

After the existing maintenance or inspection program has been revised as required by paragraph (g) of this AD, no alternative actions (e.g., inspections) or intervals may be used unless the actions or intervals are approved as an alternative method of compliance (AMOC) in accordance with the procedures specified in paragraph (j)(1) of this AD.

(i) Terminating Action for AD 2017-22-03

Accomplishing the applicable actions required by paragraph (g) of this AD terminates the requirements of paragraphs (g)(2) and (i) of AD 2017-22-03.

(j) Other FAA AD Provisions

The following provisions also apply to this AD:

(1) Alternative Methods of Compliance (AMOCs): The Manager, International Section, Transport Standards Branch, FAA, has the authority to approve AMOCs for this AD, if requested using the procedures found in 14 CFR 39.19. In accordance with 14 CFR 39.19, send your request to your principal inspector or local Flight Standards District Office, as appropriate. If sending information directly to the International Section, send it to the attention of the person identified in paragraph (k)(2) of this AD. Information may be emailed to: 9-ANM-116-AMOC-REQUESTS@faa.gov.

(i) Before using any approved AMOC, notify your appropriate principal inspector, or lacking a principal inspector, the manager of the local flight standards district office/certificate holding district office.

(ii) AMOCs previously approved for AD 2015-05-02, Amendment 39-18112 (80 FR 15152, March 23, 2015), as applicable to Airworthiness Limitations Section (ALS) Part 2, are approved as AMOCs for the corresponding provisions of this AD.

(2) Contacting the Manufacturer: For any requirement in this AD to obtain corrective actions from a manufacturer, the action must be accomplished using a method approved by the Manager, International Section, Transport Standards Branch, FAA; or the European Aviation Safety Agency (EASA); or Airbus SAS's EASA Design Organization Approval (DOA). If approved by the DOA, the approval must include the DOA-authorized signature.

(k) Related Information

(1) Refer to Mandatory Continuing Airworthiness Information (MCAI) EASA AD 2017-0231, dated November 21, 2017, for related information. This MCAI may be found in the AD docket on the internet at http://www.regulations.gov by searching for and locating Docket No. FAA-2018-0512.

(2) For more information about this AD, contact Sanjay Ralhan, Aerospace Engineer, International Section, Transport Standards Branch, FAA, 2200 South 216th St., Des Moines, WA 98198; telephone and fax 206-231-3223.

(l) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Airbus A318/A319/A320/A321 Airworthiness Limitation Section Part 2—Damage Tolerant Airworthiness Limitation Items (DT-ALI), Revision 06, dated April 10, 2017.

(ii) Airbus A318/A319/A320/A321 Airworthiness Limitation Section Part 2—Damage Tolerant Airworthiness Limitation Items (DT-ALI), Variation 6.1, dated May 18, 2017.

(iii) Airbus A318/A319/A320/A321 Airworthiness Limitation Section Part 2—Damage Tolerant Airworthiness Limitation Items (DT-ALI), Variation 6.2, dated May 24, 2017.

(iv) Airbus A318/A319/A320/A321 Airworthiness Limitation Section Part 2—Damage Tolerant Airworthiness Limitation Items (DT-ALI), Variation 6.3, dated October 24, 2017.

(3) For service information identified in this AD, contact Airbus SAS, Airworthiness Office—EIAS, Rond-Point Emile Dewoitine No: 2, 31700 Blagnac Cedex, France; telephone +33 5 61 93 36 96; fax +33 5 61 93 44 51; email account.airworth-eas@airbus.com; internet http://www.airbus.com.

(4) You may view this service information at the FAA, Transport Standards Branch, 2200 South 216th St., Des Moines, WA. For information on the availability of this material at the FAA, call 206-231-3195.

(5) You may view this service information that is incorporated by reference at the National Archives and Records Administration (NARA). For information on the availability of this material at NARA, call 202-741-6030, or go to: http://www.archives.gov/federal-register/cfr/ibr-locations.html.

Issued in Des Moines, Washington, on November 23, 2018.
John P. Piccola,
Acting Director, System Oversight Division, Aircraft Certification Service.

[FR Doc. 2018-26362 Filed 12-4-18; 8:45 am]

BILLING CODE 4910-13-P